DEPARTMENT OF DEFENSE

Department of the Navy

Notice of Public Meeting on the Draft Environmental Impact Statement for Multiple Projects in Support of Marine Barracks Washington, DC

AGENCY: Department of the Navy, Department of Defense.

ACTION: Notice.

SUMMARY: Pursuant to Section (102)(2)(c) of the National Environmental Policy Act of 1969 (NEPA) (42 United States Code [U.S.C.] Sections 4321-4370h); the Council on Environmental Quality (CEQ) regulations for implementing the procedural provisions of NEPA (Title 40 Code of Federal Regulations (C.F.R) Parts 1500-1508); Department of the Navy (DoN) Procedures for Implementing NEPA (32 CFR part 775); and Marine Corps NEPA directives (Marine Corps Order P5090.2A), the United States Marine Corps (Marine Corps) has prepared and filed with the U.S. Environmental Protection Agency (EPA) a Draft Environmental Impact Statement (EIS) that evaluates the potential environmental consequences that may result from implementation of repair, renovation, and construction projects at Marine Barracks Washington (MBW), District of Columbia (DC) anticipated to occur within an approximately 5-year planning horizon from the publication of the Record of Decision anticipated in 2016). The principal project analyzed in this Draft EIS is the replacement of a Bachelor Enlisted Quarters (BEQ) Complex (including supporting facilities and parking) currently housed in Building 20 at MBW. Depending on the alternative selected, the BEQ Complex replacement project may include land acquisition in DC. The Draft EIS also evaluates renovation and improvement projects to Building 7 at the Main Post; improvements to the MBW Annex gate at 7th and K Streets; and improvements to building facades, fencing, infrastructure, pedestrian amenities, and landscaping throughout the installation. The Draft EIS includes a programmatic evaluation of several additional projects anticipated to occur beyond the 5-year planning horizon for which information sufficient to conduct detailed NEPA analysis is not yet available. Principal among these projects is the potential reuse of Building 20 or the Building 20 site once the BEQ Complex has been relocated. Other longer-term projects include renovation of Building 9 to accommodate the consolidation of various administrative functions, as well as some additional landscaping and maintenance projects. Once these actions become sufficiently ripe for detailed analysis, additional NEPA analysis will be completed. A Notice of Intent to prepare this EIS was published in the Federal Register on September 6, 2013 (Vol. 78, No. 173, p. 54873).

With the filing of the Draft EIS, the DoN is initiating a 45-day public comment period and has scheduled a public open house meeting to receive written and verbal comments on the Draft EIS. Federal, state, and local agencies and interested individuals are encouraged to attend the public meeting. This notice announces the dates and locations of the public meeting, and supplementary information about the environmental planning effort.

Dates and Addresses: The Draft EIS public review period begins April 10, 2015 and ends on May 26, 2015. The Marine Corps is holding an open house public meeting to inform the public about the Proposed Action and the alternatives under consideration, and to provide an opportunity for the public to comment on the Draft EIS. Marine Corps representatives will be on hand to discuss the Proposed Action, the NEPA process, and the analyses presented in the Draft EIS. The meeting will be held from 5:30 p.m. to 8:30 p.m. at Tyler Elementary School (1001 G Street SE., Washington, DC 20003) on Wednesday, April 22, 2015. The DoN will consider and respond to comments received on the Draft EIS when preparing the Final EIS. The DoN expects to issue the Final EIS in November 2015, at which time a Notice of Availability will be published in the Federal Register and local print media.

The Draft EIS has been distributed to Federal and local agencies, elected officials, and the interested public. The document can be viewed online and downloaded from www.mbweis.com/EISDocument.aspx.

Copies of the Draft EIS are available for public review at the following public libraries: Southeast Public Library, 403 7th Street SE., Washington, DC 20003; Southwest Public Library, 900 Wesley Place SW., Washington, DC 20004; and Northeast Public Library, 330 7th Street NE., Washington, DC 20022.

A copy of the Draft EIS will be made available upon written request to: MBW EIS Project Manager: Ms. Katherine Childs, 1314 Harwood Street SE., Building 212, Washington Navy Yard, DC 20374-5018 or via email at katherine.childs@navy.mil.

Comments: Attendees will be able to submit written or verbal comments at the public meeting. Comments may be mailed to MBW EIS Project Manager: Ms. Katherine Childs, 1314 Harwood Street SE., Building 212, Washington Navy Yard, DC 20374-5018, or submitted electronically at the EIS Web site, www.mbweis.com. Comments may be submitted anytime during the 45-day public review period, and must be postmarked or electronically dated on or before May 26, 2015, to ensure they become part of the public record. All comments submitted during the official public review period will become part of the public record on the Draft EIS and will be addressed in the Final EIS.

FOR FURTHER INFORMATION CONTACT: MBW EIS Project Manager: Ms. Katherine Childs, 1314 Harwood Street SE., Building 212, Washington Navy Yard, DC 20374-5018, (202) 685-0164. Please submit requests for special assistance, sign language interpretation for the hearing impaired, or other auxiliary aids at the public meeting to Ms. Childs by April 17, 2015.

SUPPLEMENTARY INFORMATION: The Proposed Action evaluated in the Draft EIS would occur within an approximate 5-year planning horizon from the publication of the Record of Decision anticipated in 2016, and address existing and anticipated facility deficiencies at MBW. MBW is part of a highly urbanized metropolitan area of DC, with the Main Post and Building 20 located at the intersection of 8th and I Streets SE. in the Capitol Hill neighborhood, the largest historic district and one of the most densely populated residential neighborhoods in the city. The MBW Annex is located at the intersection of 7th Street SE. and Virginia Avenue SE. in the Near Southeast neighborhood, which has been an emerging growth area as a result of revitalization efforts that began in the 1990s and is transitioning to an established neighborhood with a growing residential community.

The purpose of the Proposed Action is to address existing and anticipated facility deficiencies at MBW in order to better support the functions of the Marine Corps units assigned to MBW. The Proposed Action is needed for the Marine Corps to meet current Quality of Life (QOL), efficiency, sustainability, life safety, Anti-Terrorism and Force Protection (AT/FP) requirements, and facilities standards. Most of these requirements are set forth in the Department of Defense (DoD) Unified Facilities Criteria (UFCs) for planning, design, construction, sustainment, restoration, and modernization.

The existing BEQ (Building 20) has multiple deficiencies relating to force protection, minimum space requirements, QOL, life safety, sustainability, and energy efficiency and cannot be renovated or redesigned to meet current standards. No existing MBW property can accommodate the entire replacement BEQ requirement (BEQ, support facilities, and parking) at a single site. However, the below-grade parking at Building 20 could be retained to meet parking needs associated with the replacement BEQ Complex. To comply with current standards and continue to meet MBW mission requirements, the Marine Corps needs to either acquire property, establish a tenant site on federal or DoD property, or select a site on DoD property to accommodate a portion of the replacement BEQ requirement (BEQ and support facilities) and construct a replacement BEQ near the MBW Main Post. The Proposed Action does not include any change to the MBW mission or staffing levels.

Building 7 interior renovations are required to improve space utilization, meet life safety standards, improve attainment of sustainability goals, and address certain AT/FP shortfalls.

The purpose and need for the following projects are aligned with fostering MBW integration with the community consistent with current UFC guidance:

• Improve the MBW Annex gate at 7th and K Streets SE to provide a “sense of arrival” for both installation personnel and visitors.

• Make aesthetic improvements (e.g., signs, door awnings, lighting, and landscaping) so that all building exteriors present a more attractive, less utilitarian appearance to the surrounding neighborhood.

• Incorporate pedestrian-friendly amenities (e.g., pedestrian paths, signage systems, seating, lighting, and landscaping) into MBW properties that are safe and appropriately sized to their surroundings.

Each of these projects is a separate, distinct, and independently complete and actionable project.

The Draft EIS also discusses the need for optimal reuse of Building 20 or the Building 20 site and long-term solutions for MBW space needs.

The Draft EIS evaluates five action alternatives. Projects analyzed in the Draft EIS and common to all five alternatives include:

• Replacement BEQ Complex: A multi-story BEQ Complex (including parking and support facilities) to replace the functions currently housed in Building 20. The proposed replacement BEQ Complex would be constructed to accommodate 125 standard Marine Corps 2+0 berthing rooms, which would provide a 250-bed sleeping capacity. In addition, the replacement BEQ Complex would accommodate the following supporting uses: Music training, enlisted dining facility, company administration space, classroom training space, fitness facility, and armory.

• Main Post renovation projects: Interior renovations to Building 7 at the Main Post.

• Projects to foster integration of MBW with the community: These include improvements to the MBW Annex gate at 7th and K Streets SE. and improvements to the building facades, fencing, infrastructure, pedestrian amenities, and landscaping throughout the installation.

Alternative 1—Site A. Under Alternative 1, the Marine Corps would acquire privately owned land and a government-owned right-of-way (ROW) for the proposed BEQ Complex. Alternative 1, Site A, consists of 3.0 acres in Squares 929 and 930 and an approximate 340-foot segment of L Street between 8th and 9th Streets SE. The affected segment of L Street SE. would be closed to vehicular and pedestrian traffic and street parking. For the purposes of this EIS, it is expected that the replacement BEQ Complex would be constructed within the L Street ROW.

Alternative 2—Site B. Under Alternative 2, the Marine Corps would acquire privately-owned land and a government-owned ROW for the replacement BEQ Complex. Alternative 2, Site B, consists of 1.8 acres in Square 976 and an approximate 315-foot segment of the L Street ROW between 10th and 11th Streets SE. Unlike Alternative 1, there would be no construction within the L Street ROW. This segment of L Street would be closed to vehicular traffic and on-street parking, but it would remain open for pedestrians. No structures would be constructed within the adjacent Virginia Avenue Park, and the park would remain open to public use. The segment of the ROW and the adjacent portion of Virginia Avenue Park are included within this site as a means of satisfying the AT/FP vehicular standoff distance, while also allowing public use to continue.

Alternative 3—Site C. The land comprising Site C is federally-owned, but subject to a master development plan and agreement between GSA and a private developer (Forest City Washington) authorized by prior special legislation. An agreement with Forest City Washington and GSA to transfer Site C to the DoN/USMC would be required in order for Site C to be selected. Under Alternative 3, the Marine Corps obtain appropriate real estate interest in a portion of the federally owned land at the Southeast Federal Center (SEFC) for the proposed replacement BEQ Complex and a 3-story above ground parking structure. Alternative 3, Site C, is 2.1 acres within Square 853, bounded by M Street SE. to the north and Tingey Street SE. to the south. In addition to having to reach an agreement with Forest City Washington and GSA, under this alternative, the SEFC “The Yards” Redevelopment Master Plan would need to be revised.

Alternative 4—Site D. Under Alternative 4, the Marine Corps would establish a tenant site on 1.67 acres of federally owned land at the northern end of Square 953, within the boundary of the Washington Navy Yard (WNY). The existing land use includes an administrative building (Building 169) as well as tennis and basketball courts east of Building 169, all of which have been identified as areas for potential redevelopment in the WNY Master Plan (approved by the National Capital Planning Commission on November 6, 2014). Also included is the parking lot south of Building 169 (16 spaces) and potentially a portion of Poor Street that connects Parsons Avenue and 10th Street SE. BEQ construction on this site would require the demolition of Building 169, which is currently occupied by MBW functions. The existing below-grade parking at the Building 20 site would be maintained to satisfy the BEQ Complex parking requirement.

Alternative 5—Site E. Under Alternative 5, the Marine Corps would use 0.89-acre within the boundary of the MBW Annex (Squares 881 and 881W). For the purposes of this EIS, it is expected that the replacement BEQ Complex construction would occur within the 6th Street L'Enfant Plan viewshed between Building 25 (Annex building) and Building 26 (Annex parking garage). The new facility would be sited as close to Building 25 as possible and would connect via a breezeway between the replacement BEQ Complex and the western end of Building 25. The site currently contains a basketball court that would be relocated to the north of Building 25. The existing below-grade parking at the Building 20 site would be maintained to satisfy the BEQ Complex parking requirement.

The Marine Corps has not identified a preferred alternative at this time. Each of the action alternatives involve trade-offs among economic, technical, environmental, and Marine Corps statutory mission requirements. A preferred alternative will be selected in the Final EIS after public comments on the Draft EIS are evaluated.

Dated: April 10, 2015.
N.A. Hagerty-Ford,
Commander, Judge Advocate General's Corps, U.S. Navy, Federal Register Liaison Officer.

[FR Doc. 2015-08863 Filed 4-16-15; 8:45 am]

BILLING CODE 3810-FF-P